FEDERAL COMMUNICATIONS COMMISSION

47 CFR Part 73

[DA 01-1237; MM Docket No. 01-64; RM-10074]

Radio Broadcasting Services; Monticello, Maine

AGENCY: Federal Communications Commission.

ACTION: Final rule.

SUMMARY: This document allots Channel 234A to Monticello, Maine, in response to a petition filed by Allan H. Wiener. See 66 FR 14873, March 14, 2001. The coordinates for Channel 234A at Monticello, Maine, are 46-24-20 NL and 67-50-45 WL. Although Canadian concurrence has been requested for the allotment of Channel 234A at Monticello, notification has not been received. Therefore, operation with the facilities specified for Monticello herein is subject to modification, suspension, or termination without right to hearing, if found by the Commission to be necessary in order to conform to the 1991 Canada-USA FM Broadcast Agreement or if specifically objected to by Canada. A filing window for Channel 234A at Monticello, Maine, will not be opened at this time. Instead, the issue of opening this allotment for auction will be addressed by the Commission in a subsequent order.

DATES: Effective July 3, 2001.

FOR FURTHER INFORMATION CONTACT: Kathleen Scheuerle, Mass Media Bureau, (202) 418-2180.

SUPPLEMENTARY INFORMATION: This is a summary of the Commission's Report and Order, MM Docket No. 01-24, adopted May 9, 2001, and released May 18, 2001. The full text of this Commission decision is available for inspection and copying during normal business hours in the Commission's Reference Center, Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Maine, is amended by adding Monticello, Channel 234A.

Federal Communications Commission.
John A. Karousos,
Chief, Allocations Branch, Policy and Rules Division, Mass Media Bureau.

[FR Doc. 01-14015 Filed 6-4-01; 8:45 am]

BILLING CODE 6712-01-P